DEPARTMENT OF TRANSPORTATION

Federal Aviation Administration

14 CFR Part 39

[Docket No. FAA-2024-0220; Project Identifier MCAI-2023-00760-T; Amendment 39-22733; AD 2023-13-07R1]

RIN 2120-AA64

Airworthiness Directives; Saab AB, Support and Services (Formerly Known as Saab AB, Saab Aeronautics) Airplanes

AGENCY: Federal Aviation Administration (FAA), DOT.

ACTION: Final rule; removal.

SUMMARY: The FAA is removing Airworthiness Directive (AD) 2023-13-07, which applied to certain Saab AB, Support and Services Model SAAB 340B airplanes. AD 2023-13-07 required amending the applicable airplane flight manual (AFM) by incorporating a temporary revision (TR) to reduce the maximum take-off weight (MTOW). The FAA issued AD 2023-13-07 to address the possibility of flight in an uncertified envelope, which could result in reduced structural capability and reduced controllability of the airplane. Since the FAA issued AD 2023-13-07, a determination was made that affected airplanes can be safely operated up to the initially published MTOW. Accordingly, AD 2023-13-07 is removed.

DATES: This AD becomes effective April 18, 2024.

ADDRESSES:

AD Docket: You may examine the AD docket at regulations.gov under Docket No. FAA-2024-0220; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Related Service Information:

• For EASA material, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195.

FOR FURTHER INFORMATION CONTACT: Shahram Daneshmandi, Aviation Safety Engineer, FAA, 1600 Stewart Avenue, Suite 410, Westbury, NY 11590; telephone 206-231-3220; email shahram.daneshmandi@faa.gov.

SUPPLEMENTARY INFORMATION:

Background

The FAA issued a notice of proposed rulemaking (NPRM) to amend 14 CFR part 39 by removing AD 2023-13-07, Amendment 39-22492 (88 FR 43052, July 6, 2023) (AD 2023-13-07). AD 2023-13-07 applied to certain Saab AB, Support and Services Model SAAB 340B airplane. The NPRM was published in the Federal Register on February 9, 2024 (89 FR 9077). AD 2023-13-07 was prompted by AD 2023-0121, dated June 12, 2023 (EASA AD 2023-0121) (also referred to as the MCAI), issued by the European Union Aviation Safety Agency (EASA), which is the Technical Agent for the Member States of the European Union. The NPRM was prompted by EASA issuing AD Cancellation Notice 2023-0121-CN, dated December 8, 2023 (EASA AD Cancellation Notice 2023-0121-CN), to cancel EASA AD 2023-0121. EASA AD Cancellation Notice 2023-0121-CN states that since EASA AD 2023-0121 was issued, Saab provided evidence that affected airplanes can be safely operated up to the initially published MTOW of 30,000 pounds. The NPRM proposed to remove AD 2023-13-07. The FAA is issuing this AD to remove AD 2023-13-07.

Discussion of Final Airworthiness Directive

Comments

The FAA received no comments on the NPRM or on the determination of the cost to the public.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than 30 days, upon a finding of good cause.

Since the FAA issued AD 2023-13-07, Saab provided evidence demonstrating that affected airplanes can be operated safely up to the initially published MTOW of 30,000 pounds. Therefore, the FAA is issuing this AD to remove AD 2023-13-07, and the FAA did not receive any adverse comments or useful information about this AD from U.S. operators that necessitates waiting 30 days for relief from this requirement. Accordingly, the FAA finds that good cause exists pursuant to 5 U.S.C. 553(d) for making this amendment effective in less than 30 days.

Conclusion

The FAA reviewed the relevant data and determined that air safety requires adopting this AD as proposed. Except for minor editorial changes, this AD is adopted as proposed in the NPRM. None of the changes will increase the economic burden on any operator.

This AD removes all actions of AD 2023-13-07. Therefore, the requirements of AD 2023-13-07 are terminated.

Related Costs of Compliance

This AD adds no costs. This AD removes AD 2023-13-07 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-13-07, Amendment 39-22492 (88 FR 43052, July 6, 2023), and

b. Adding the following new AD:

2023-13-07R1 Saab AB, Support and Services (formerly known as Saab AB, Saab Aeronautics): Amendment 39-22733; Docket No. FAA-2024-0220; Project Identifier MCAI-2023-00760-T.

(a) Effective Date

This AD is effective April 18, 2024.

(b) Affected AD

This AD replaces AD 2023-13-07, Amendment 39-22492 (88 FR 43052, July 6, 2023) (AD 2023-13-07).

(c) Applicability

This AD applies to Saab AB, Support and Services (formerly known as Saab AB, Saab Aeronautics) Model SAAB 340B airplanes, certificated in any category, as identified in European Union Aviation Safety Agency (EASA) AD 2023-0121, dated June 13, 2023: airplanes not having SAAB modification 2571 (extended wingtip modification) embodied and having GE Aviation Systems LTD (Dowty Propellers) installed.

(d) Subject

Air Transport Association (ATA) of America Code 51, Standard practices/structures.

(e) Terminating Action

This AD terminates all requirements of AD 2023-13-07.

(f) Related Information

For more information about this AD, contact Shahram Daneshmandi, Aviation Safety Engineer, FAA, 1600 Stewart Avenue, Suite 410, Westbury, NY 11590; telephone 206-231-3220; email shahram.daneshmandi@faa.gov.

(g) Material Incorporated by Reference

None.

Issued on April 11, 2024.
Victor Wicklund,
Deputy Director, Compliance & Airworthiness Division, Aircraft Certification Service.

[FR Doc. 2024-08153 Filed 4-17-24; 8:45 am]

BILLING CODE 4910-13-P